CONSUMER PRODUCT SAFETY COMMISSION

[HP 01-3]

ENVIRONMENTAL PROTECTION AGENCY

[OPP-00741; FRL-6802-8]

Draft Sampling Protocols for Chromated Copper Arsenate (CCA) Pressure-Treated Playground Equipment and Related Soil; Notice of Availability

AGENCIES: Consumer Product Safety Commission (CPSC). Environmental Protection Agency (EPA).

ACTION: Notice.

SUMMARY: This notice announces the availability of draft sampling and analysis protocols developed cooperatively by CPSC and EPA to collect and analyze dislodgeable residues of arsenic, chromium and copper from Chromated Copper Arsenate (CCA) pressure-treated playground equipment (dislodgeable residues protocol) and soil residues of arsenic, chromium and copper in soils beneath/adjacent to CCA-treated playground equipment (soil residues protocol). The studies to be conducted using these protocols will assist both Agencies in assessing exposure that can be expected for children playing on/around CCA-treated playground equipment. By providing notice and opportunity for comment on the protocols, the Agencies are seeking to strengthen stakeholder involvement and help ensure that their decisions are transparent and based on the best available information.

DATES: Comments must be received on or before October 22, 2001.

ADDRESSES: Comments may be submitted by mail, electronically, or by hand delivery. Please follow the detailed instructions provided in Unit I of the SUPPLEMENTARY INFORMATION.

FOR FURTHER INFORMATION CONTACT:

1. Draft Dislodgeable Residues Protocol

For further information on the draft dislodgeable residues protocol contact: Patricia Bittner, Directorate for Health Sciences, Consumer Product Safety Commission, Washington, DC 20207; telephone number: (301) 504-0477, ext. 1184; fax number (301) 504-0079; e-mail address: pbittner@cpsc.gov.

2. Draft Soil Residues Protocol

For further information on the draft soil residues protocol contact: Norm Cook, Antimicrobials Division (7510C), Office of Pesticide Programs, Environmental Protection Agency, 1200 Pennsylvania Ave., NW., Washington, DC 20460; telephone number: (703) 308-8253; fax number: (703)308-8481; e-mail address: cook.norm@epa.gov.

SUPPLEMENTARY INFORMATION:

I. General Information

A. Does This Action Apply to Me?

This action is directed to the public in general. This action may, however, be of particular interest to: Wood treaters; manufactures of CCA; wholesalers, distributors, and retailers of CCA-treated lumber and products made with CCA-treated lumber; and consumers purchasing and using CCA-treated lumber or CCA-treated lumber products. The Agencies are obtaining expert scientific peer review of the draft sampling and analysis protocols through EPA's contractor, Versar, but would also like to afford the general public an opportunity to comment on the study design prior to initiation of the actual sampling and analyses. All comments (Versar and public) will be carefully considered and made available in both CPSC's and EPA's dockets. Since other entities may also be interested, the Agencies have not attempted to describe all specific entities that may be affected by this action. If you have any questions regarding the applicability of this action to a particular entity, consult one of the persons listed under FOR FURTHER INFORMATION CONTACT.

B. How Can I Get Additional Information, Including Copies of the Draft Protocols and Other Related Documents?

1. Electronically. You may obtain electronic copies of the draft protocols, and certain other related information that might be available electronically, from the CPSC Internet Home Page at http://www.cpsc.gov. To access these documents and information on the CPSC Home page, select “Library (FOIA),” “Electronic Reading Room—Freedom of Information Act Information,” “2001 FOIA Information,” and “Commission Briefing Packages.” Then scroll down to the materials designated with the name of this notice.

You may also access the draft protocols and related information from the EPA Internet Home Page at http://www.epa.gov/. To do so on the EPA Home Page, select “Laws and Regulations,” “Regulations and Proposed Rules,” and then look up the entry for this document under the “Federal Register—Environmental Documents.” You can also go directly to the Federal Register listings at http://www.epa.gov/fedrgstr/.

2. In person. Copies of the draft protocols and related information may be obtained from the CPSC Office of the Secretary, Room 502, 4330 East-West Highway, Bethesda, MD; telephone number: (301) 504-0127; e-mail address: cpsc-os@cpsc.gov.

Copies of the draft protocols and related information may also be obtained from EPA. EPA has established an official record for this action under docket control number OPP-00741. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. To Whom and How Do I Submit Comments?

1. Comments to CPSC on Draft Dislodgeable Residues Protocol

a. General. Comments on the draft dislodgeable residues protocol should be submitted to the Office of the Secretary, Consumer Product Safety Commission, Washington, DC 20207-0001, or delivered to the Office of the Secretary, Consumer Product Safety Commission, Room 502, 4330 East-West Highway, Bethesda, MD 20814, telephone number: (301) 504-0800. Comments on the draft dislodgeable residues protocol also may be filed by facsimile to (301) 504-0127 or by e-mail to cpsc-os@cpsc.gov. Comments on the draft dislodgeable residues protocol should be captioned “Notice of Availability of Draft Dislodgeable Residues Protocol.”

b. How should I Handle CBI that I Want to Submit to CPSC? Any person responding to the CPSC who believes that any information submitted is CBI (i.e., trade secret or proprietary) should specifically identify the exact portions of the document claimed to be confidential. The Commission's staff will receive and handle such information confidentially and in accordance with section 6(a) of the Consumer Product Safety Act (CPSA), 15 U.S.C. 2055(a). Such information will not be placed in the public docket for the rulemaking and will not be made available to the public simply upon request. If the Commission receives a request for disclosure of the information or concludes that its disclosure is necessary to discharge the Commission's responsibilities, the Commission will inform the person who submitted the information and provide that person with an opportunity to present additional information and views concerning the confidential nature of the information. 16 CFR 1015.18(b).

The Commission's staff will then make a determination as to whether the information is a trade secret or proprietary information that cannot be released. That determination will be made in accordance with applicable provisions of the CPSA; the Freedom of Information Act (FOIA), 5 U.S.C. 552b; 18 U.S.C. 1905; the Commission's procedural regulations at 16 CFR part 1015 governing protection and disclosure of information under provisions of FOIA; and relevant judicial interpretations. If the Commission concludes that any part of the information that has been submitted with a claim that the information is a trade secret or proprietary is disclosable, it will notify the person submitting the material in writing and provide at least 10 calendar days from the receipt of the letter to allow for that person to seek judicial relief. 15 U.S.C. 2055(a)(5) and (6); 16 CFR 1015.19(b).

2. Comments to EPA on Draft Soil Residues Protocol. Comments on the draft soil residues protocol should be submitted to EPA. To ensure proper receipt by EPA of comments, it is imperative that you identify docket control number OPP-00741 in the subject line on the first page of your response.

a. By mail. Submit your comments to: Public Information and Records Integrity Branch (PIRIB), Information Resources and Services Division (7502C), Office of Pesticide Programs (OPP), Environmental Protection Agency, 1200 Pennsylvania Ave., NW., Washington, DC 20460.

b. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

c. Electronically. You may submit your comments electronically by e-mail to: opp-docket@epa.gov, or you can submit a computer disk as described in this unit. Do not submit any information electronically that you consider to be CBI. Avoid the use of special characters and any form of encryption. Electronic submissions will be accepted in WordPerfect 6.1/8.0 or ASCII file format. All comments in electronic form must be identified by docket control number OPP-00741. Electronic comments may also be filed online at many Federal Depository Libraries.

d. How Should I Handle CBI that I Want to Submit to EPA? Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

D. What Should I Consider as I Prepare My Comments?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the rule or collection activity.

7. Make sure to submit your comments by the deadline in this notice.

8. To ensure proper receipt by the Agency, be sure to properly identify the comments in the subject line on the first page of your response. You may also provide the name, date, and Federal Register citation.

II. What Actions Are the Agencies Taking?

A. CPSC

The CPSC received a petition from the Environmental Working Group (EWG) and the Healthy Building Network (HBN) requesting a ban on the use of CCA treated wood in playground equipment. The petitioners assert that a ban is necessary because “[r]ecent research has shown that arsenic is more carcinogenic than previously recognized, that arsenic is present at significant concentrations on CCA-treated wood and in underlying soil, that the health risks posed by this wood are greater than previously recognized, and that past risk assessments were incomplete.”

The Commission docketed the request for a ban as a petition under provisions of the Federal Hazardous Substances Act (FHSA), 15 U.S.C. 1261-1278. The EWG/HBN submission also requested that the Commission review the safety of CCA-treated wood for general use. That request was not docketed as part of the petition because it would not require rulemaking. The request for a review is being considered separately by the CPSC's Office of Hazard Identification and Reduction. The Commission published notice of docketing of the EWG/HBN petition in the Federal Register of July 13, 2001 (66 FR 36756). The public comment period on that notice closed on September 11, 2001.

As part of its response to the EWG/HBN petition, the CPSC, in cooperation with EPA, has developed the draft dislodgeable residues protocol that is the subject of this notice. CPSC will use the results of the study to be conducted under the protocol in its further evaluation of the potential exposure and any associated risks to children who come in contact with CCA-treated wood.

B. EPA

As part of the reregistration process for heavy duty wood preservatives (including pentachlorophenol, creosote, and CCA) under the Federal Insecticide, Fungicide, and Rodenticide Act (FIFRA), the EPA is evaluating the human and environmental risks of CCA. Since CCA-treated wood can be used in both commercial and residential settings, EPA intends to evaluate all uses of CCA-treated wood. Because of specific concerns associated with use of CCA-treated wood in playground equipment, the Agency is presently evaluating available exposure and hazards data in order to determine the risks to children who come in contact with CCA-treated wood and CCA-contaminated soil.

As part of the CCA-exposure evaluation, EPA, in cooperation with the CPSC, is developing a sampling regime that addresses potential soil residues of arsenic, chromium, and copper which may occur in soils below/adjacent to CCA-treated playground equipment. The draft protocol for that sampling regime is the subject of this notice.

List of Subjects

Consumer protection, Environmental protection, Arsenic, Chromated copper arsenate, Chromium, Copper, Hazardous substances, Pesticides and pests, Playgrounds, Soil.

Dated: September 13, 2001.
Todd A. Stevenson,
Acting Secretary, Office of the Secretary, Consumer Product Safety Commission.
Dated: September 14, 2001.
Frank Sanders,
Director, Antimicrobials Division, Office of Pesticide Programs, Environmental Protection Agency.

[FR Doc. 01-23409 Filed 9-19-01; 8:45 am]

BILLING CODE 6355-01-P; 6560-P